DEPARTMENT OF LABOR

Occupational Safety and Health Administration

[Docket Number: OSHA-2012-0020]

Whistleblower Protection Advisory Committee (WPAC)

AGENCY: Occupational Safety and Health Administration (OSHA), DOL.

ACTION: Notice of establishment of the Whistleblower Protection Advisory Committee (WPAC).

SUMMARY: In accordance with the provisions of the Federal Advisory Committee Act, as amended (5. U.S.C., App. 2), the Secretary of Labor intends to establish the Whistleblower Protection Advisory Committee (WPAC).

The WPAC advises, consults with, and makes recommendations to the Secretary of Labor (Secretary) and the Assistant Secretary of Labor for Occupational Safety and Health (Assistant Secretary) on ways to improve the fairness, efficiency, effectiveness and transparency of OSHA's whistleblower protection activities.

FOR FURTHER INFORMATION CONTACT: For press inquiries: Mr. Francis Meilinger, OSHA, Office of Communications, Room N-3647, U.S. Department of Labor, 200 Constitution Avenue NW., Washington, DC 20210; Telephone: (202) 693-1999. This is not a toll-free number. Email: meilinger.francis2@dol.gov.

For general information: Sandra Dillon, Director, Office of the Whistleblower Protection Program, Occupational Safety and Health Administration, U.S. Department of Labor, Room N-3610, 200 Constitution Avenue NW., Washington, DC 20210; telephone (202) 693-2199. This is not a toll-free number. Email: dillon.sandra@dol.gov.

SUPPLEMENTARY INFORMATION: With this Federal Register notice, the Assistant Secretary notifies the public of the establishment of Whistleblower Protection Advisory Committee (WPAC). WPAC's duties will be solely advisory and consultative. WPAC will advise, consult with, and make recommendations to the Secretary and the Assistant Secretary on ways to improve the fairness, efficiency, effectiveness, and transparency of OSHA's whistleblower protection activities. In particular, WPAC will make recommendations regarding the development and/or implementation of:

• Better customer service to both workers who raise complaints and employers who are the subject of investigations;

• Improvement in the investigative and enforcement process, and the training of OSHA investigators;

• Improvement of regulations governing OSHA investigations;

• Cooperative activities with federal agencies responsible for areas also covered by the whistleblower protection statutes enforced by OSHA; and

• Other matters concerning the fairness, efficiency and transparency of OSHA's whistleblower investigations as identified by the Secretary or the Assistant Secretary.

Authority and Signature

David Michaels, Ph.D., MPH, Assistant Secretary of Labor for Occupational Safety and Health, directed the preparation of this notice under the authority granted by the Federal Advisory Committee Act (FACA), as amended (5 U.S.C. App. 2), its implementing regulations (41 CFR part 102-3), chapter 1600 of Department of Labor Management Series 3 (Mar. 17, 2008), Secretary of Labor's Order 1-2012 (Jan. 18, 2012), 77 FR 3912 (Jan. 25, 2012), and the Secretary of Labor's authority to administer the whistleblower provisions found in Section 11(c) of the Occupational Safety and Health Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. § 2087; Section 1558 of the Affordable Care Act, Public Law 111-148; the Consumer Financial Protection Act of 2010, 12 U.S.C.A. 5567; the Seaman's Protection Act, 46 U.S.C. 2114; and Section 402 of the FDA Food Safety Modernization Act, Public Law 111-353.

Signed at Washington, DC on May 14, 2012.
David Michaels,
Assistant Secretary of Labor for Occupational Safety and Health.

[FR Doc. 2012-11982 Filed 5-16-12; 8:45 am]

BILLING CODE 4510-26-P